DEPARTMENT OF LABOR

Employment and Training Administration

[TA-W-71,749]

Fisher & Paykel Appliances, Inc., Huntington Beach, CA; Notice of Termination of Investigation

Pursuant to Section 221 of the Trade Act of 1974, as amended, an investigation was initiated in response to a petition filed on July 21, 2009, by a State workforce official.

The petitioning group of workers is covered by an active petition (TA-W-64,169) which expires on October 23, 2010. Consequently, further investigation in this case would serve no purpose, and the investigation under this petition has been terminated.

Signed at Washington, DC, this 17th day of February, 2010.
Del Min Amy Chen,
Certifying Officer, Division of Trade Adjustment Assistance.

[FR Doc. 2010-5341 Filed 3-11-10; 8:45 am]

BILLING CODE 4510-FN-P